NATIONAL AERONAUTICS AND SPACE ADMINISTRATION

[Notice (05-170)]

Notice of Prospective Patent License

AGENCY: National Aeronautics and Space Administration.

ACTION: Notice of Prospective Patent License.

SUMMARY: This notice is issued in accordance with 35 U.S.C. 209(c)(1) and 37 CFR 404.7(a)(1)(i). NASA hereby gives notice of its intent to grant a partially exclusive license in the United States to practice the inventions described and claimed in Foreign Patent No. 0423277, JSC Docket No. MSC-21293-1-EP, “Bio-Reactor Cell Culture Process”, Foreign Patent No. 1987294, JSC Docket No. MSC-21293-1-JP, “Bio-Reactor Cell Culture Process”, International Application No. PCT/US98/06826, JSC Docket No. MSC-22859-1-EP, European Application No. 98915320.0 entitled “Production of Functional Proteins: Balance of Shear Stress and Gravity”, International Application No. PCT/US98/06826, JSC Docket No. MSC-22859-1-JP, Japanese Application No. 10-540983 entitled “Production of Functional Proteins: Balance of Shear Stress and Gravity”, International Application No. PCT/US98/06826, JSC Docket No. MSC-22859-1-CA, Canadian Application No. 2286349 entitled “Production of Functional Proteins: Balance of Shear Stress and Gravity”, International Application No. PCT/US98/06826, JSC Docket No. MSC-22859-1-IL, Israeli Application No. 132264 entitled “Production of Functional Proteins: Balance of Shear Stress and Gravity”, International Application No. PCT/US98/06826, JSC Docket No. MSC-22859-1-MX, Mexican Application No. 999265 entitled “Production of Functional Proteins: Balance of Shear Stress and Gravity”, and International Application No. PCT/US98/06826, JSC Docket No. MSC-22859-1-BR, Brazilian Application No. 98915320.0 entitled “Production of Functional Proteins: Balance of Shear Stress and Gravity” to Renautus Bio Therapeutics, LLC, having its principal place of business in Baton Rouge, LA. The patent rights in the inventions have been assigned to the United States of America as represented by the Administrator of the National Aeronautics and Space Administration. The prospective partially exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will be treated as objections to the grant of the contemplated partially exclusive license. Objections submitted in response to this notice will not be made available to the public for inspection and, to the extent permitted by law, will not be released under the Freedom of Information Act, 5 U.S.C. 552.

ADDRESSES: Objections relating to the prospective license may be submitted to Patent Counsel, Office of Chief Counsel, Johnson Space Center, Mail Code AL, 2101 NASA Parkway, Houston, Texas 77058.

FOR FURTHER INFORMATION CONTACT: Kurt G. Hammerle, Patent Attorney, NASA Johnson Space Center, Mail Stop AL, Houston, TX 77058-8452, Telephone: (281) 483-1001, Facsimile: (281) 483-6936. Information about other NASA inventions available for licensing can be found online at http://technology.nasa.gov/.

Dated: December 15, 2005.
Keith T. Sefton,
Deputy General Counsel, Administration and Management.

[FR Doc. E5-7635 Filed 12-20-05; 8:45 am]

BILLING CODE 7510-13-P